DEPARTMENT OF DEFENSE

Department of the Army, Corps of Engineers

Notice of Intent To Prepare a Draft Environment Impact Statement for the Proposed Alamo Dam Water Control Plan Update; Alamo Lake, Mojave and La Paz Counties, Arizona

AGENCY: Department of the Army, U.S. Army Corps of Engineers, DoD.

ACTION: Notice of intent.

SUMMARY: This notice advises the public that the Los Angeles District of the U.S. Army Corps of Engineers (USACE-SPL), as lead agency, is gathering information necessary to prepare an environmental impact statement (EIS) in connection with the update proposed for Alamo Dam's Water Control Plan. This notice opens the public scoping phase and invites interested parties to identify potential issues, concerns, and reasonable alternatives that should be considered in an EIS.

ADDRESSES: You may mail or hand deliver written comments to Alamo Dam WCP Update, Los Angeles District, U.S. Army Corps of Engineers, ATTN: CESPL-AMO Alamo, 915 Wilshire Blvd, Suite 930, Los Angeles, California 90017. Advance arrangements will need to be made to hand deliver comments. Please include your name, return address, and “NOI Comments, Alamo Dam Water Control Plan Update” on the first page of your written comments. Comments may also be submitted via email to AlamoDamSPL@usace.army.mil. If emailing comments, please use “NOI Comments, Alamo Dam Water Control Plan Update” as the subject of your email. Email: AlamoDamSPL@usace.army.mil.

FOR FURTHER INFORMATION CONTACT: Questions about the proposed action and DEIS can be answered by email: AlamoDamSPL@usace.army.mil; or mail: Alamo Dam WCP Update, Los Angeles District, U.S. Army Corps of Engineers, ATTN: CESPL-AMO, 915 Wilshire Blvd, Suite 930, Los Angeles, CA 90017.

SUPPLEMENTARY INFORMATION:

1. Project Description. The proposed update would provide greater flexibility in operations to support maintenance activities, minimization of anoxic sediment build up at the outlet works, and fish and wildlife benefits downstream of the dam in support of the sustainable rivers MOU. The action would also potentially result in a reallocation of water storage space to prevent the probable maximum flood overtopping the Dam. The action would also address Endangered Species Act (ESA) compliance regarding newly listed species and critical habitat designated downstream of the Dam since the 2003 Water Control Plan was completed.

2. Alternatives. The EIS will address an array of alternatives based on the project's authorized purpose and need. USACE-SPL must identify the “overall” project purpose and evaluate practicable alternatives. USACE-SPL has identified the following potential alternatives:

A. No Action—Under this alternative, USACE-SPL would continue existing operations at Alamo Dam in accordance with the 2003 Water Control Plan.

B. Maintenance Facilitation—Under this alternative, USACE-SPL would lower the target water surface elevation (WSE) to allow access to original equipment used for regular maintenance inspections. 15.4 feet of the existing unclaimed water conservation pool storage would be reallocated to the flood control pool.

C. Unified Flow Release—Under this alternative, USACE-SPL would maintain the current target WSE but alter release schedules to create a more natural flow regime below the Dam. 15.4 feet of the existing unclaimed water conservation pool storage would be reallocated to the flood control pool.

D. Unified Flow Release and increased Recreation—Under this alternative, USACE-SPL would raise the target water surface elevation to increase the pool allowing for more recreational opportunities. The release schedule would be modified to create a more nature flow regime below the Dam. 15.4 feet of the existing unclaimed water conservation pool storage would be reallocated to the flood control pool.

E. Original Operation Plan—Under this alternative, USACE-SPL would drop the target water surface elevation to the original elevation listed in the 1973 Water Control Manual. The release schedule would be returned to the release schedule from the 1973 Water Control Manual.

3. Scoping. Scoping is the NEPA process utilized for seeking public involvement in determining the range of alternatives and significant issues to be addressed in the EIS. USACE-SPL invites full public participation to promote open communication on the issues surrounding the proposed action. The public will be involved in the scoping and evaluation process through advertisements, notices, and other means. Project information will also be available on USACE-SPL's website at http://www.spl.usace.army.mil/. All individuals, NGOs, affected Indian Tribes, and local, state, and Federal agencies that have an interest are urged to participate in the scoping process. Public scoping meetings will be held to present information to the public and to receive comments from the public. The meetings will be held in Lake Havasu and Phoenix. The date, time and exact location are to be determined. Notice of the public scoping meetings will be posted on the Los Angeles District Public Notice web page: http://www.spl.usace.army.mil/Media/Public-Notices/. Comments will also be accepted via email (AlamoDamSPL@usace.army.mil) or postal mail (Los Angeles District, U.S. Army Corps of Engineers, ATTN: CESPL-AMO, 915 Wilshire BLVD, Suite 930, Los Angeles, CA 90017). In addition to the two proposed public scoping meetings, the USACE-SPL scoping process for this action will include potential additional public scoping meeting(s) and workshop(s) (exact number TBD) with affected Federal, state, and local agencies.

Public Scoping Meeting: The date, time and exact location are to be determined. Notice of the public scoping meetings will be posted on the Los Angeles District Public Notice web page: http://www.spl.usace.army.mil/Media/Public-Notices/.

4. Potentially Significant Issues. The EIS will analyze the potential impacts on the human and natural environment resulting from the project. The scoping, public involvement, and interagency coordination processes will help identify and define the range of potential significant issues that will be considered. Important resources and issues evaluated in the EIS could include, but are not limited to, the direct, indirect, and cumulative effects on fish and wildlife, recreation, land use, hydrology and hydraulics, property values, and induced flooding. USACE-SPL will also consider issues identified and comments made throughout scoping, public involvement, and interagency coordination. USACE-SPL expects to better define the issues of concern and the methods that will be used to evaluate those issues through the scoping process.

5. Environmental Consultation and Review. USACE-SPL is requesting that the U.S. Fish and Wildlife Service, U.S. Bureau of Recreation, U.S. Bureau of Land Management, Arizona Department of Game and Fish, and the Arizona State Park Department act as cooperating agencies on this EIS. In addition to the federal interests noted above for general development of the EIS, USFWS will assist in documenting existing conditions and assessing effects of project alternatives through the Fish and Wildlife Coordination Act consultation procedures. Consultation will be completed with USFWS concerning threatened and endangered species and their critical habitat per the Endangered Species Act.

6. The USACE-SPL will consult with the Arizona State Historic Preservation Officer (SHPO) and the appropriate Tribal Historic Preservation Officers (THPO), per the National Historic Preservation Act.

7. Availability. The DEIS is presently scheduled to be available for public review and comment by: May 2019. All comments received throughout the review process will become part of the administrative record for the proposed project and subject to public release.

Dated: March 20, 2018.
Kirk E. Gibbs,
Colonel, U.S. Army, Commander and District Engineer.

Notes

• Text to be double-spaced. Use block format.

• Place local billing code number at the top of the first page on all three copies.

• Margins—one inch on top, bottom and right side; and one and one-half inches on the left side.

• Pages must be numbered consecutively.

• Text should be typed on one side only.

• Use 8½ by 11 inch bond paper or photocopy paper.

• Refer to 33 CFR 230, Appendix C for additional guidance.

[FR Doc. 2018-07310 Filed 4-9-18; 8:45 am]

BILLING CODE 3720-58-P